COMMISSION ON CIVIL RIGHTS

Agenda and Notice of Public Meeting of the Hawaii State Advisory Committee

Notice is hereby given, pursuant to the provisions of the rules and regulations of the U.S. Commission on Civil Rights and the regulations of the Federal Advisory Committee Act (FACA), that a meeting of the Hawaii Advisory Committee will convene at 1 p.m. and adjourn at 5 p.m. on Monday, August 20, 2007 in the auditorium of the Hawaii state capitol located at 415 S. Beretania St. in Honolulu, Hawaii. The purpose of the briefing is to hear from experts about the proposed Native Hawaiian Government Reorganization Act of 2007, Akaka bill, which seeks to establish a process for Native Hawaiians to gain federal recognition. There will be an open session for members of the public to make short statements to the Committee.

Members of the public are entitled to submit written comments; the comments must be received in the Western Regional Office by September 1, 2007. The address is 300 North Los Angeles Street, Suite 2010, Los Angeles, CA 90012. Persons wishing to e-mail their comments, or to present their comments verbally at the meeting, or who desire additional information should contact Barbara de La Viez, Civil Rights Analyst, Eastern Regional Office, U.S. Commission on Civil Rights at (202) 376-7533 [TDY] 202-376-8116], or by e-mail at bdelaviez@usccr.gov.

Hearing impaired persons who will attend the meeting and require the services of a sign language interpreter should contact the Eastern Regional Office at least ten (10) working days before the scheduled date of the planning meeting.

Records generated from this meeting may be inspected and reproduced at the Western Regional Office, as they become available, both before and after the meeting. Persons interested in the work of this advisory committee are advised to go to the Commission's Web site, www.usccr.gov, or to contact the Eastern Regional Office at the above e-mail or street address.

The meeting will be conducted pursuant to the provisions of the rules and regulations of the Commission and FACA.

Dated at Washington, DC, August 3, 2007.
Ivy L. Davis,
Acting Chief, Regional Programs Coordination Unit.

[FR Doc. 07-3885 Filed 8-7-07; 8:45 am]

BILLING CODE 6335-01-M